ENVIRONMENTAL PROTECTION AGENCY

[FRL-9136-1]

National Environmental Justice Advisory Council; Notification of Public Teleconference and Public Comment

AGENCY: Environmental Protection Agency.

ACTION: Notification of Public Teleconference and Public Comment.

SUMMARY: Pursuant to the Federal Advisory Committee Act (FACA), Public Law 92-463, the U.S. Environmental Protection Agency (EPA) hereby provides notice that the National Environmental Justice Advisory Council (NEJAC) will host a public teleconference call on, Wednesday April 28, 2010, starting at 2 p.m. Eastern Time. The primary topics of discussion will be updates on EPA's response to the NEJAC's Goods Movement Report; and reports from the NEJAC liaisons to the Tribal Operations Commission and the Children's Health Protection Advisory Committee School Siting Task Group. This NEJAC National Public Teleconference meeting is open to the public. There will be a public comment period from 3:30 p.m. to 4 p.m. Eastern Time. Members of the public are encouraged to provide comments relevant to the topics of this call.

For additional information about registering to attend the call or to provide public comment during the call, please see SUPPLEMENTARY INFORMATION. Due to a limited number of telephone lines, attendance will be on a first-come basis. There is no fee to attend, but pre-registration is required.

DATES: The NEJAC teleconference call on April 28 2010, will begin promptly at 2 p.m. Eastern Time.

FOR FURTHER INFORMATION CONTACT: To register online, visit the Web site above. If unable to register online, requests for advance-registration forms should be sent to EPA's support contractor, APEX Direct Inc., by phone or fax at (877) 773-0779, or by e-mail at Meetings@AlwaysPursuingExcellence.com. Please provide your name, organization, and telephone number for follow-up as necessary. Non-English speaking attendees wishing to arrange for a foreign language interpreter also may make appropriate arrangements using these numbers.

Questions or correspondences concerning the teleconference meeting should be directed to Mr. Aaron Bell, U.S. Environmental Protection Agency, at 1200 Pennsylvania Avenue, NW., (MC2201A), Washington, DC 20460; by telephone at (202) 564-1044, via e-mail at Bell.Aaron@epa.gov; or by FAX at (202) 564-1624. Additional information about the meeting is available on the following Web site: http://www.epa.gov/environmentaljustice/nejac/meetings.html.

SUPPLEMENTARY INFORMATION: The Charter of the NEJAC states that the advisory committee shall provide independent advice to the Administrator on areas that may include, among other things, “advice about broad, cross-cutting issues related to environmental justice, including environment-related strategic, scientific, technological, regulatory and economic issues related to environmental justice. The April 28, 2010, teleconference call shall be used to receive comments, discuss and provide recommendations primarily regarding updates on EPA's response to the NEJAC's Goods Movement Report; and reports from the NEJAC liaisons to the Tribal Operations Commission and the Children's Health School Siting Task Force.

A. Public Comment: Members of the public who wish to participate on the call or to provide public comment must pre-register by 11 a.m. Eastern Time Tuesday, April 27, 2010. Individuals or groups making remarks during the public comment period will be limited to a total time of five minutes. Only one representative of a community, organization or group will be allowed to speak. Written comments can also be submitted for the record. The suggested format for individuals providing public comments is as follows: Name of Speaker, Name of Organization/Community, Address/Telephone/E-mail, Description of Concern and its Relationship to a Specific Policy Issue(s), and Recommendations or desired outcome. Written comments received by 5 p.m. Eastern Time Monday, April 26, 2010, will be included in the materials distributed to the members of the NEJAC. Written comments received after that time will be provided to the NEJAC as logistics allow. All written comments should be sent EPA's support contractor, APEX Direct, Inc., listed in the CONTACT section above.

B. Information about Services for Individuals with Disabilities: For information about access or services for individuals with disabilities, please contact EPA's support contractor, APEX Direct, Inc., listed in the CONTACT section above. To request special accommodations for a disability, please contact EPA's support contractor, APEX Direct, Inc., at least 10 days prior to the call, to give EPA sufficient time to process your request. All requests should be sent to the address, e-mail, or fax number listed in the CONTACT section above.

Dated: April 7, 2010.
Victoria Robinson,
Designated Federal Officer, National Environmental Justice Advisory Council.

[FR Doc. 2010-8399 Filed 4-12-10; 8:45 am]

BILLING CODE 6560-50-P